DEPARTMENT OF THE INTERIOR

Bureau of Land Management

[UT-920-07-1320-EL, UTU-84713]

Notice of Invitation To Participate in Coal Exploration License Application, Parallel Petroleum Corporation, UTU-84713, Utah

AGENCY: Bureau of Land Management, Interior.

ACTION: Notice of Invitation to Participate in Coal Exploration License.

SUMMARY: Pursuant to section 2(b) of the Mineral Leasing Act of 1920, as amended by section 4 of the Federal Coal Leasing Amendments Act of 1976, 90 Stat. 1083, 30 U.S.C. 201(b), and to the regulations adopted as 43 CFR part 3410, all interested parties are hereby invited to participate with Parallel Petroleum Corporation on a pro rata cost sharing basis in a program for the exploration of coal deposits in the Vernal Coal Field owned by the United States of America in the following-described lands in Uintah County, Utah:

T. 3 S., R. 23 E., SLM, Utah

Sec. 7, lot 2;

Sec. 29, SW¼NE¼ .

T. 4 S., R. 22 E., SLM, Utah

Sec. 10, NE¼SW¼;

Sec. 35, NE¼SW¼.

Containing 159.57 acres.

DATES: Any party electing to participate in this exploration program must send written notice to both the Bureau of Land Management (BLM) and Parallel Petroleum Corporation, as provided in the ADDRESSES section below, no later than thirty days after publication of this invitation in the Federal Register.

ADDRESSES: Copies of the exploration plan and license (serialized under the number of UTU 84713) are available for review during normal business hours in the public room of the BLM State Office, 440 West 200 South, Suite 500, Salt Lake City, Utah. The written notice to participate in the exploration program should be sent to both the BLM, Utah State Office, P.O. Box 45155, Salt Lake City, Utah 84145, and to William A. Ryan, Agent Rocky Mountain Consulting, Inc., 290 South 800 East, Vernal, Utah 94078.

SUPPLEMENTARY INFORMATION: All of the coal in the above-described land consists of unleased Federal coal. This coal is not within a known coal production area. This coal exploration license will be issued by the BLM. The exploration program is fully described and is being conducted pursuant to an exploration plan approved by the BLM. The plan may be modified to accommodate the legitimate exploration needs of persons seeking to participate. This notice of invitation to participate was published in The Vernal Express, once each week for two consecutive weeks beginning the fourth week of August 2006 and in the Federal Register.

The foregoing is published in the Federal Register pursuant to 43 CFR 3410.2-1(c)(1).

Dated: February 13, 2007.
Kent Hoffman,
Deputy State Director, Lands and Minerals.

[FR Doc. E7-5207 Filed 3-21-07; 8:45 am]

BILLING CODE 4310-$$-P